DEPARTMENT OF AGRICULTURE

Animal and Plant Health Inspection Service

[Docket No. APHIS-2020-0071]

Classify Canada as Level I for Bovine Tuberculosis and Brucellosis

AGENCY: Animal and Plant Health Inspection Service, USDA.

ACTION: Notice.

SUMMARY: We are advising the public of our decision to classify Canada as Level I for both bovine tuberculosis and brucellosis. This recognition is based on evaluations we prepared in connection with this action, which we made available to the public for review and comment through a previous notice.

DATES: Imports under this classification may be authorized beginning December 27, 2021.

FOR FURTHER INFORMATION CONTACT: Dr. Kelly Rhodes, Senior Staff Veterinarian, Regionalization Evaluation Services, Strategy and Policy, VS, APHIS, USDA, 4700 River Road Unit 38, Riverdale, MD 20737-1231; Ask.Regionalization@usda.gov; (301) 851-3315.

SUPPLEMENTARY INFORMATION: The regulations in 9 CFR part 93, subpart D (§§ 93.400 through 93.442, referred to below as part 93 or the subpart), contain requirements for the importation of ruminants into the United States to address the risk of introducing or disseminating diseases of livestock within the United States. Part 93 currently contains provisions that address the risk that imported bovines (cattle or bison) may introduce or disseminate bovine tuberculosis or brucellosis within the United States. Within part 93, § 93.437 contains the requirements for classification of foreign regions for bovine tuberculosis and § 93.438 contains the process for requesting regional classification for bovine tuberculosis. In accordance with § 93.437(f), the Animal and Plant Health Inspection Service (APHIS) maintains lists of all Level I, Level II, Level III, Level IV, and Level V regions for bovine tuberculosis and adds foreign regions classified in accordance with § 93.438 to these lists.

Section 93.440 contains the requirements for classification of foreign regions for brucellosis and § 93.441 contains the process for requesting regional classification for brucellosis. In accordance with § 93.440(d), APHIS maintains lists of all Level I, Level II, and Level III regions for brucellosis and adds regions classified in accordance with § 93.441 to these lists.

Paragraph (a) of § 93.438 provides that a representative of a national government with authority to make such a request may request that APHIS classify a region for bovine tuberculosis; paragraph (a) of § 93.441 has a similar provision with respect to requests for brucellosis classification. Within those same sections, paragraph (b) provides that if, after reviewing and evaluating the request for bovine tuberculosis or brucellosis classification, respectively, APHIS believes the region can be accurately classified, APHIS will publish a notice in the Federal Register with the proposed classification and make its evaluation available for public comment. Following the close of the comment period, APHIS will review all comments received and will make a final determination regarding the request that will be detailed in another document published in the Federal Register.

In accordance with that process, we published a notice ¹ in the Federal Register on February 24, 2021 (86 FR 11218-11219, Docket No. APHIS-2020-0071), in which we announced the availability, for review and comment, of evaluations of Canada for bovine tuberculosis and brucellosis classification, as well as an environmental assessment (EA). The notice proposed to classify Canada as Level I for both bovine tuberculosis and brucellosis.

¹ To view the notice, evaluations, environmental assessment, and comment we received, go to www.regulations.gov and enter APHIS-2020-0071 in the Search field.

We solicited comments on the notice for 60 days ending April 26, 2021. We received one comment by that date. The comment was from a private citizen.

The commenter stated that it was difficult to know what the different classification levels for disease status meant and asked that we explain what they meant.

As we explained in the notice, § 93.437 of the regulations contains the requirements for classification of foreign regions for bovine tuberculosis and § 93.438 contains the process for requesting regional classification for bovine tuberculosis. As part of the process for requesting regional classification, the national government of the region must submit an application to APHIS that defines the boundaries of the region, specifies the prevalence level for bovine tuberculosis within the region, and demonstrates that, among other things:

• There is effective veterinary control and oversight within the region;

• Bovine tuberculosis is a notifiable disease within the region; and

• The region has a program for bovine tuberculosis in place that includes epidemiological investigations, management of affected herds, diagnostic testing, and disease surveillance.

The specific requirements for classification as a Level I region for bovine tuberculosis are set out in paragraph (a) of § 93.437. To receive Level I classification for bovine tuberculosis, a region must meet APHIS requirements for bovine tuberculosis classification in accordance with § 93.438, and a prevalence of tuberculosis in their domestic bovine herds of less than 0.001 percent over at least the previous 2 years (24 consecutive months).

In the evaluation titled “APHIS Evaluation of Canada for Bovine Tuberculosis (Mycobacterium bovis) Classification” (April 2020) that accompanied our February 24, 2021 notice,² we set forth the results of our evaluation of Canada for bovine tuberculosis. APHIS found that Canada fully meets APHIS requirements for classification and that the prevalence of bovine tuberculosis in Canada appears to be well below 0.001 percent, meaning that Canada qualifies for classification as Level I. The evaluation also noted that such classification effectively exempts all Canadian cattle and bison exported to the United States from bovine tuberculosis testing prior to export.

² See footnote 1.

Similarly, as we explained in the notice, § 93.440 of the regulations contains the requirements for classification of foreign regions for brucellosis and § 93.441 contains the process for requesting regional classification for brucellosis. The process for requesting regional brucellosis classification is similar to the process for requesting regional bovine tuberculosis classification summarized above.

The specific requirements for classification as a Level I region for brucellosis are set out in paragraph (a) of § 93.440. To receive Level I classification for brucellosis, a region must meet APHIS requirements for brucellosis classification in accordance with § 93.441, and also have a prevalence of brucellosis in their domestic bovine herds of less than 0.001 percent over at least the previous 2 years (24 consecutive months).

In the evaluation titled “APHIS Evaluation of Canada for Bovine Brucellosis (Brucella abortus) Classification” (May 2020) that accompanied our February 24, 2021 notice,³ we set forth the results of our evaluation of Canada for bovine brucellosis. APHIS found that Canada fully meets the APHIS requirements for classification and that brucellosis has not been confirmed in a bovine animal in that country since 1989, qualifying Canada for Level I classification for brucellosis. The evaluation also noted that such classification effectively exempts all Canadian cattle and bison exported to the United States from brucellosis testing.

³ See footnote 1.

Therefore, in accordance with the regulations in §§ 93.437 and 93.440, we are announcing our decision to classify Canada as Level I for both bovine tuberculosis and brucellosis, and to add Canada to the web-based list of Level I regions for bovine tuberculosis and the web-based list of Level I regions for brucellosis. Bovines from Canada may be imported under the conditions listed in §§ 93.439 and 93.442 for the appropriate classification level.

National Environmental Policy Act

After reviewing and evaluating the comment received during the comment period on the draft EA, evaluations, and other information, APHIS has prepared a final EA, which provides the public with documentation of APHIS' review and analysis of any potential environmental impacts associated with the classification of Canada as Level I for bovine tuberculosis and brucellosis. The EA was prepared in accordance with: (1) The National Environmental Policy Act (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372). Based on our EA, the response to public comment, and other pertinent information, APHIS has reached a finding of no significant impact (FONSI) with regard to the classification of Canada as Level I for bovine tuberculosis and brucellosis.

Congressional Review Act

Pursuant to the Congressional Review Act (5 U.S.C. 801 et seq.), the Office of Information and Regulatory Affairs designated this action as not a major rule, as defined by 5 U.S.C. 804(2).

Authority: 7 U.S.C. 1622 and 8301-8317; 21 U.S.C. 136 and 136a; 31 U.S.C. 9701; 7 CFR 2.22, 2.80, and 371.4

Done in Washington, DC, this 21st day of December 2021.
Mark Davidson,
Acting Administrator, Animal and Plant Health Inspection Service.

[FR Doc. 2021-28057 Filed 12-23-21; 8:45 am]

BILLING CODE 3410-34-P